DEPARTMENT OF STATE

[Public Notice 8253]

Industry Advisory Panel; Notice of Open Meeting

The Industry Advisory Group, formerly the Industry Advisory Panel, of the Bureau of Overseas Buildings Operations will meet on Friday, April 19, 2013 from 10:00 a.m. until 12:00 p.m. Eastern Daylight Time. The meeting is open to the public and will be held in the Loy Henderson Conference Room of the U.S. Department of State, located at 2201 C Street NW., (entrance on 23rd Street) Washington, DC. For logistical and security reasons, the public must enter and exit the building using only the 23rd Street entrance.

In line with OBO's renewed commitment to Design Excellence, the committee's charter has been amended to better serve the needs of the Bureau. The panel of nine has grown to a group of 35 professionals. These professionals will advise the Bureau on areas of research and development, acquisition and sales, planning, program development, design, engineering, construction, historic preservation, sustainability, natural hazards, emergency operations, security, operations, and maintenance. It is anticipated that the Group will meet once annually in a session that will be open to the public.

Entry to the building is controlled; to obtain pre-clearance, a member of the public planning to attend should provide, by April 12, his or her name, professional affiliation, date of birth, citizenship, and a valid government-issued ID number (i.e., U.S. government ID, U.S. military ID, passport, or drivers license) via email to: IAGR@state.gov. Requests for reasonable accommodation should be sent to the same email address by April 12. Requests made after that date will be considered, but may not be able to be fulfilled.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database.

Please see the Security Records System of Records Notice (State-36) at http://www.state.gov/documents/organization/103419.pdf for additional information.

Please contact Christy Foushee at FousheeCT@state.gov or (703) 875-4131 with any questions.

Dated: March 15, 2013.
Jurg Hochuli,
Acting Director, U.S. Department of State, Bureau of Overseas Buildings Operations.

[FR Doc. 2013-06750 Filed 3-22-13; 8:45 am]

BILLING CODE 4710-02-P